DEPARTMENT OF STATE

[Public Notice: 11950]

Biodiversity Beyond National Jurisdiction

ACTION: Notice of public meeting.

SUMMARY: The Department of State will hold an information session regarding upcoming United Nations negotiations concerning marine biodiversity of areas beyond national jurisdiction.

DATES: The public meeting will be held via WebEx on January 24, 2023, 10:00-11:00 a.m.

FOR FURTHER INFORMATION CONTACT: If you would like to participate in this meeting, please send your (1) name, (2) organization/affiliation, and (3) email address and phone number, to Meaghan Cuddy at CuddyMR@state.gov or at (202) 340-3272.

SUPPLEMENTARY INFORMATION: The Department of State will hold a public meeting at 10:00 a.m. on Tuesday, January 24, 2023, to prepare for the resumed fifth session of an Intergovernmental Conference (IGC) on the conservation and sustainable use of marine biological diversity of areas beyond national jurisdiction (BBNJ). This public meeting will be held by way of WebEx, with a capacity of up to 1000 members of the public to participate. To RSVP, participants should contact the meeting coordinator, Meaghan Cuddy, by email at CuddyMR@state.gov for log on and dial-in information, and to request reasonable accommodation. Requests for reasonable accommodation received after January 17, 2023, will be considered but might not be possible to fulfill.

The United Nations will convene the resumed fifth session of the BBNJ IGC from February 20-March 3, 2023, in New York City. The UN General Assembly established the IGC to consider the recommendations of a two-year Preparatory Committee and to elaborate the text of an international legally binding instrument under the United Nations Convention on the Law of Sea on BBNJ. This resumed session is a continuation of the session held from August 15-26, 2022. It is anticipated that the BBNJ Agreement may be adopted at the conclusion of negotiations in this session. Additional information on the BBNJ process is available at www.un.org/bbnj.

We are inviting interested U.S. stakeholders to this virtual public meeting to share views about the BBNJ IGC, in particular to provide information to assist the U.S. Government in developing its positions. We will provide a brief overview of the upcoming negotiations and listen to the viewpoints of U.S. stakeholders. The information obtained from this session will help the U.S. delegation prepare for participation in the resumed fifth IGC session.

Authority: 22 U.S.C. 2656.

Elizabeth Kim,
Director, Office of Ocean and Polar Affairs, Department of State.

[FR Doc. 2022-27938 Filed 12-22-22; 8:45 am]

BILLING CODE 4710-09-P